DEPARTMENT OF THE TREASURY

Agency Information Collection Activities; Submission for OMB Review; Comment Request; Departmental Offices Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 24, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Office of Financial Research (OFR)

Title: Ongoing Data Collection of Centrally Cleared Transactions in the U.S. Repurchase Agreement Market.

OMB Number: 1505-0259.

Form Number: OFR SFT 1-1, 1-2 & 1-3.

Description: Regulations issued in 2019 established a data collection covering centrally cleared transactions in the U.S. repurchase agreement (“repo”) market. This collection requires daily reporting to the Office of Financial Research (“Office”) by covered central counterparties (“CCPs”). The collected data will be used to support the work of the Financial Stability Oversight Council (the “Council”), its member agencies, and the Office to identify and monitor risks to financial stability, and to support the calculation of certain reference rates.

Type of Review: Extension without change of a currently approved collection.

Affected Public: Businesses or other for-profits.

Estimated Number of Respondents: 1 respondent.

Estimated Frequency of Response: On occasion.

Estimated Total Number of Annual Responses: 756 responses.

Estimated Time per Response: 2 hours 40 minutes.

Estimated Total Annual Burden Hours: 2,016 hours.

Authority: 44 U.S.C. 3501 et seq.

Melody Braswell,
Treasury PRA Clearance Officer.

[FR Doc. 2022-15852 Filed 7-22-22; 8:45 am]

BILLING CODE 4810-AK-P